DEPARTMENT OF LABOR

Employment and Training Administration

[TA-W-60,918; TA-W-60,918A]

Bosal Industries Georgia, a Subsidiary of Bosal International North America Lavonia, GA and Bosal Industries Tennessee, a Subsidiary of Bosal International North America, Columbia, TN; Notice of Termination of Investigation

Pursuant to Section 221 of the Trade Act of 1974, as amended, an investigation was initiated on February 8, 2007 in response to a petition filed by a Company Official and on behalf of workers at Bosal Industries Georgia, a subsidiary of Bosal International North America, Lavonia, Georgia (TA-W-60,918) and Bosal Industries Tennessee, a subsidiary of Bosal International North America, Columbia, Tennessee (TA-W-60,918A).

The petitioner has requested that the petition be withdrawn. Consequently, the investigation has been terminated.

Signed at Washington, DC this 9th day of March, 2007.
Elliott S. Kushner,
Certifying Officer, Division of Trade Adjustment Assistance.

[FR Doc. E7-4998 Filed 3-16-07; 8:45 am]

BILLING CODE 4510-FN-P